DEPARTMENT OF HEALTH AND HUMAN SERVICES

National Institutes of Health

Center For Scientific Review; Amended Notice of Meeting

Notice is hereby given of a change in the meeting of the Biological Chemistry and Macromolecular Biophysics Integrated Review Group, Macromolecular Structure and Function B Study Section, October 22, 2024, 08:30 a.m. to October 23, 2024, 08:00 p.m., National Institutes of Health, Rockledge II, 6701 Rockledge Drive, Bethesda, MD, 20892 which was published in the Federal Register on September 23, 2024, FR Doc. No. 2024-21617, 89 FR 77533.

This meeting is being amended to change the start time of the meeting from 8:30 a.m. to 9:00 a.m. The meeting is closed to the public.

Dated: September 23, 2024.
Lauren A. Fleck,
Program Analyst, Office of Federal Advisory Committee Policy.

[FR Doc. 2024-22141 Filed 9-26-24; 8:45 am]

BILLING CODE 4140-01-P